SMITHSONIAN INSTITUTION

NATIONAL CAPITAL PLANNING COMMISSION

Intent To Prepare a Tier II Environmental Impact Statement for Proposed Construction of the Smithsonian National Museum of African American History and Culture

AGENCY: Smithsonian Institution (SI), National Capital Planning Commission (NCPC).

ACTION: Notice.

SUMMARY: Pursuant to section 102(2)(c) of the National Environmental Policy Act (NEPA) of 1969, as implemented by the Council on Environmental Quality (40 CFR parts 1500-1509), and in accordance with the Environmental Policies and Procedures implemented by the National Capital Planning Commission, the SI and NCPC announce their intent, as Joint-Lead Agencies, with NCPC as the Responsible Federal Agency, to prepare a Tier II environmental impact statement (EIS) to assess the potential effects of constructing and operating the National Museum of African American History and Culture (NMAAHC) within the Smithsonian Institution. The Museum will be located on a 217,800 square foot (SF) or 5 acre site bounded by Constitution Avenue, Madison Drive, 14th and 15th Streets, NW., on the National Mall in Washington, DC. A public meeting will be conducted to ensure that all significant issues related to construction and operation of the proposed museum are identified for study in the EIS. SI and NCPC are conducting this NEPA process concurrent with the National Historic Preservation Act (NHPA), section 106 process.

SUPPLEMENTARY INFORMATION: Public Law 108-184, the National Museum of African American History and Culture Act enacted by the Congress of the United States on December 16, 2003, (the Act) established a museum within the Smithsonian Institution to be known as the National Museum of African American History and Culture. It recognizes that such a museum “would be dedicated to the collection, preservation, research, and exhibition of African American historical and cultural materials reflecting the breadth and depth of the experience of individuals of African descent living in the United States.”

Section 8 of the Act, “Building for the National Museum of African American History and Culture,” directs the Smithsonian Board of Regents to select one site among four in Washington, DC for the construction of the museum. After undertaking a site evaluation study and consultation with parties specified in the legislation, the Board of Regents of the Smithsonian Institution voted to select the area bounded by Constitution Avenue, Madison Drive, 14th, and 15th Streets, NW., now commonly known as the Monument site. The decision was announced on January 30, 2006.

After site selection, SI and NCPC, after consultation with the Council of Environmental Quality, decided to tier the EIS process (40 CFR parts 1502.20 and 1508.28). The Tier I EIS was completed with a Final EIS (FEIS) issued on June 27, 2008 and a SI Record of Decision issued on August 8, 2008.

The identity and description of the action to be addressed in both EIS tiers derive primarily from the language of Public Law 180-184, its legislative history, and the studies by the “National Museum of African American History and Culture Plan for Action Presidential Commission” that led to its enactment, and the Phase II Site Evaluation Study of November 15, 2005.

The Tier I FEIS analyzed a “no build” alternative along with six diagrammatic massing alternatives on the site. Alternatives addressed themes that included context, siting and mass, orientation, form, exterior spaces, and profiles. The Tier I FEIS concluded that the Build Alternatives all had comparable effects on the majority of resources analyzed. This highlighted the need to develop more concrete design concepts in order to assess fully the impacts of the NMAAHC on cultural and visual/aesthetic resources. Therefore, the SI chose to express the Tier I Preferred Alternative as a set of physical parameters related to heights, setbacks, and configuration. The physical parameters resulted in a Smithsonian Preferred Alternative of about 350,000 GSF that was bounded between 60 and 105 feet in height, a minimum 50 foot setback from the inside face of the sidewalk of the surrounding streets; and a subsurface volume not lower that 45 feet. The massing parameters ranged from orthogonal and contextual to free-form and non-contextual. While NCPC and Smithsonian are working cooperatively on this EIS, Smithsonian does not submit a design to NCPC for review until later in the process.

In addition to the physical parameters, the SI developed a set of design principles to help future design architects to minimize adverse effects on historic resources. The principles speak to the importance of relating to and respecting the character, views, and spatial arrangements of the National Mall; the character, scale, and historic context of the Washington Monument grounds; and the relationship of the NMAAHC to adjacent architectural and urban contexts.

The potential range of alternatives that will be evaluated in the Tier II EIS includes the no action or no build alternative and no fewer than three build alternatives that will address, among other things, the design principles, the analysis and findings of the Tier I EIS and SI ROD and the issues surfaced in the concurrent NHPA, section 106 process. The Tier II EIS will include a full range of alternatives evaluating varying heights and forms, including one with a roof height that does not exceed the roof heights of adjacent museums, and with building faces that do not protrude beyond the building faces of adjacent museum buildings along the Mall.

Public Scoping Meeting and Comments: The Smithsonian Institution and the National Capital Planning Commission will solicit public comments for consideration and possible incorporation in the Draft Tier II EIS through public scoping, including a scoping meeting, on the proposed museum building at the Monument site. The scoping meeting will be held on December 10, 2009, from 5:30 p.m. to 8:30 p.m. in the “Commons” of the Smithsonian Castle Building, located at 1000 Jefferson Drive, SW., Washington, DC. Consultants representing the SI and NCPC will be available to answer questions and receive comments about the scope of the Tier II EIS. Announcements about the meeting are provided on the NCPC Web site at http://www.ncpc.gov. Notice of the public meeting will be publicized in local newspapers and through other sources. Additional information about the museum is located at http://www.nmaahc.si.edu and about the Tier I EIS at http://www.louisberger-nmaahceis.com. To ensure that all issues related to this action are addressed and all significant issues are identified early in the process, comments are invited in writing and orally from all interested and/or potentially affected parties. These comments may be provided at the public meeting or provided in writing to EDAW/AECOM, Attn: NMAAHC EIS Comments, 601 Prince Street, Alexandria, VA 22314 or by e-mail to NMAAHC.EIS.Comments@aecom.com. All public comments must be postmarked or received by e-mail by December 24, 2009.

FOR FURTHER INFORMATION CONTACT: Jane Passman, Senior Facilities Planner, Smithsonian Institution, Office of Facilities Engineering and Operations. For U.S. Postal Service delivery the address is P.O. Box 37012, MRC 511, Washington, DC 20013-7012. For all other deliveries the address is 600 Maryland Ave., SW., Suite 5001, Washington, DC 20024. Phone 202-633-6549; Fax: 202-633-6233.

Dated: November 4, 2009.
Judith Leonard,
General Counsel, Smithsonian Institution.
Dated: November 4, 2009.
Lois J. Schiffer,
General Counsel, National Capital Planning Commission.

[FR Doc. E9-27002 Filed 11-9-09; 8:45 am]

BILLING CODE 8030-03-P